FEDERAL MARITIME COMMISSION

[Docket No. 23-05]

Rahal International Inc., Complainant v. Hapag-Lloyd AG, Hapag-Lloyd (America), LLC, and Hapag-Lloyd USA, LLC, Respondents and Third-Party Complainants v. Maher Terminals, LLC, GCT New York LP, and GCT Bayonne LP, Third-Party Respondents; Notice of Filing of Third-Party Complaint; Correction

AGENCY: Federal Maritime Commission.

ACTION: Notice; correction.

SUMMARY: On September 8, 2023, the Federal Maritime Commission (FMC) published a document in the Federal Register of September 15, 2023, concerning a third-party complaint filed in Docket No. 23-05. This document incorrectly designated Hapag-Lloyd USA, LLC as a Third-Party Complainant.

FOR FURTHER INFORMATION CONTACT: Amy Strauss, Acting Secretary, (202) 523-5725 or secretary@fmc.gov.

SUPPLEMENTARY INFORMATION: In the Federal Register of September 15, 2023, on page 63575:

1. in the first column remove the document title and replace with the following: Rahal International Inc., Complainant v. Hapag-Lloyd AG, Hapag-Lloyd (America), LLC, and Hapag-Lloyd USA, LLC, Respondents and Hapag-Lloyd AG and Hapag-Lloyd (America), LLC, Third-Party Complainants v. Maher Terminals, LLC, GCT New York LP, and GCT Bayonne LP, Third-Party Respondents; Notice of Filing of Third-Party Complaint

2. in the second column, both times it appears, remove “Hapag-Lloyd AG, Hapag-Lloyd (America), LLC, and Hapag-Lloyd USA, LLC” and replace with the following: Hapag-Lloyd AG and Hapag-Lloyd (America), LLC

3. in the second column, remove the following paragraph: Respondent and Third-Party Complainant Hapag-Lloyd USA, LLC is a United States subsidiary and agent of Hapag-Lloyd AG with its office located in Atlanta, Georgia.

Carl Savoy,
Federal Register Alternate Liaison Officer, Federal Maritime Commission.

[FR Doc. 2023-20642 Filed 9-22-23; 8:45 am]

BILLING CODE 6730-02-P